ENVIRONMENTAL PROTECTION AGENCY

[Regional Docket No. II-2019-4; FRL-10001-06-Region 2]

Clean Air Act Operating Permit Program; Petition on State Operating Permit for Newark Bay Cogeneration Partnership LP

AGENCY: Environmental Protection Agency (EPA).

ACTION: Notice of Final Order on Petition on Clean Air Act Title V Operating Permit.

SUMMARY: The Environmental Protection Agency (EPA) Administrator signed an Order dated August 16, 2019, responding to a petition related to a Clean Air Act (CAA) title V operating permit issued by the New Jersey Department of Environmental Protection (NJDEP) to Newark Bay Cogeneration Partnership LP for the Newark Bay Cogeneration facility located in Essex County, New Jersey, Operating Permit No. BOP160001, PI No. 07617.

ADDRESSES: The EPA requests that you contact the individual listed in the FOR FURTHER INFORMATION CONTACT section to view copies of the final Order, the Petition, and other supporting information. You may review copies of the final Order, the Petition, and other supporting information at the EPA Region 2 Office, 290 Broadway, 25th Floor, New York, New York 10007-1866. You may view the hard copies Monday through Friday, from 9:00 a.m. to 3:00 p.m., excluding federal holidays. If you wish to examine these documents, you should make an appointment at least 24 hours before the visiting day. Additionally, the final Order and Petition are available electronically at: https://www.epa.gov/title-v-operating-permits/title-v-petition-database.

FOR FURTHER INFORMATION CONTACT: Suilin Chan, EPA Region 2, 212-637-4019, Chan.Suilin@epa.gov.

SUPPLEMENTARY INFORMATION: Section 505(b)(1) of the CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issues arose after this period.

The EPA received a petition from the Ironbound Community Corporation dated March 18, 2019 relating to the Permit. The petition was submitted under CAA § 505(b)(2) asking EPA to object to the Permit.

On August 16, 2019, the EPA Administrator issued an Order denying the Petition. The Order explains the basis for the EPA's decision.

Sections 307(b) and 505(b)(2) of the CAA provide that a petitioner may request judicial review of those portions of an order that deny issues in a title V petition. Any petition for review shall be filed in the United States Court of Appeals for the appropriate circuit no later than December 10, 2019.

Dated: September 23, 2019.
Peter Lopez,
Regional Administrator, Region 2.

[FR Doc. 2019-22328 Filed 10-10-19; 8:45 am]

BILLING CODE 6560-50-P